DEPARTMENT OF ENERGY

National Coal Council; Notice of Open Meeting

AGENCY: Department of Energy, Office of Fossil Energy.

ACTION: Notice of open meeting.

SUMMARY: This notice announces a meeting of the National Coal Council (NCC). Federal Advisory Committee Act (Pub. L. 92-463, 86 Stat. 770) requires notice of these meetings be announced in the Federal Register .

DATES: Friday, November 14, 2008 9 a.m.-12 Noon.

ADDRESSES: Westin Grand Hotel, 2350 M Street, NW., Washington, DC.

FOR FURTHER INFORMATION CONTACT: Mr. Robert Kane, Phone: (202) 586-4753, U.S. Department of Energy, Office of Fossil Energy, Washington, DC 20585.

SUPPLEMENTARY INFORMATION:

Purpose of the Committee: The purpose of the National Coal Council is to provide advice, information, and recommendations to the Secretary of Energy on matters relating to coal and coal industry issues:

Tentative Agenda:

○ Call to Order and Opening Remarks by Mr. Michael G. Mueller, Chair

○ Remarks by Mr. Samuel W. Bodman, Secretary of Energy (Invited)

○ Council Business

Status report on issues papers and information manual—Jerry Hollinden & Jackie Bird, Co-Chairs/Project Work Group

○ Presentation of Guest Speaker re: Overview of the World Energy Markets—Frank Clemente, Penn State University

○ Presentation of Guest Speaker re: Status of Coal-to-Liquids and Coal-to-Natural Gas Technologies—James Childress, Gasification Research Council

○ Presentation of Guest Speaker re: Election 2008: The Impact on Coal—Hal Quinn, National Mining Association

○ Other Business

○ Adjourn

Public Participation: The meeting is open to the public. The Chairman of the NCC will conduct the meeting to facilitate orderly business. If you would like to file a written statement with the Committee, you may do so either before or after the meeting. If you would like to make oral statements regarding any of the items on the agenda, you should contact Mr. Robert Kane at the address and telephone number listed above. You must make your request for an oral statement at least five business days prior to the meeting, and reasonable provisions will be made to include the presentation on the agenda. Public comment will follow the 10 minute rule.

Minutes: The minutes will be available for public review and copying within 30 days at the Freedom of Information Public Reading Room, 1G-033, Forrestal Building, 1000 Independence Avenue, SW., Washington, DC, between 9 a.m. and 4 p.m., Monday through Friday, except Federal holidays.

Issued in Washington, DC on October 1, 2008.
Rachel Samuel,
Deputy Committee Management Officer.

[FR Doc. E8-23542 Filed 10-3-08; 8:45 am]

BILLING CODE 6450-01-P